DEPARTMENT OF TRANSPORTATION

Federal Aviation Administration

RTCA Special Committee 194 ATM Data Link Implementation

Pursuant to section 10(a)(2) of the Federal Advisory Committee Act (Pub. L. 92-463, 5 U.S.C., Appendix 2), notice is hereby given for Special Committee 194 meeting to be held April 24-27, 2000, starting at 9 a.m. The meeting will be held at RTCA, 1140 Connecticut Ave., NW, Suite 1020, Washington, DC 20036.

The agenda will include: April 24: 9 a.m.-12 Noon, Working Group (WG) 2, Flight Operations and ATM Integration; 1 p.m.-5 p.m., Plenary Session: (1) Welcome and Introductory Remarks; (2) Review Agenda; (3) Review/Approve Previous Two Meeting Summaries; (4) Approval of WG-3 Document, Minimum Operational Performance Standards of Air Traffic Services Provided via Data Communication Utilizing the ATN, Builds I and IA. April 25-26: (5) Working Group Meetings; (6) Data Link Ops Concept and Implementation Plan (WG-1); (7) Flight Operations and ATM Integration (WG-2); (8) Human Factors (WG-3), and (9) Service Provider Interface (WG-4). April 27: (10) Working Group Reports; (11) Updates on Work Programs and Expected Document Completion Dates; (12) Other Business; (13) Date and Location of Future Meetings; (14) Closing.

Attendance is open to the interested public but limited to space availability. With the approval of the chairman, members of the public may present oral statements at the meeting. Persons wishing to present statements or obtain information should contact the RTCA Secretariat, 1140 Connecticut Avenue, NW., Suite 1020, Washington, DC. 20036; (202) 833-9339 (phone); (202) 833-9434 (fax); or http://www.rtca.org (web site). Members of the public may present a written statement to the committee at any time.

Issued in Washington, DC, on March 28, 2000.
Janice L. Peters,
Designated Official.

[FR Doc. 00-8234 Filed 4-3-00; 8:45 am]

BILLING CODE 4910-13-M